SMALL BUSINESS ADMINISTRATION

[Disaster Declaration No. 10267]

Northern Mariana Islands Disaster No. MP-00001

AGENCY: U.S. Small Business Administration.

ACTION: Notice.

SUMMARY: This is a Notice of the Presidential declaration of a major disaster for Public Assistance Only for the Commonwealth of the Northern Mariana Islands (FEMA-1611-DR), dated November 8, 2005.

Incident: Typhoon Nabi.

Incident Period: August 30, 2005 through September 1, 2005.

Effective Date: November 8, 2005.

Physical Loan Application Deadline Date: January 9, 2006.

ADDRESSES: Submit completed loan applications to: U.S. Small Business Administration, National Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on November 8, 2005, applications for Private Non-Profit organizations that provide essential services of a governmental nature may file disaster loan applications at the address listed above or other locally announced locations.

The following islands have been determined to be adversely affected by the disaster:

Rota, Saipan, Tinian.

The Interest Rates are:

| Percent
Other (Including Non-Profit Organizations) with Credit Available Elsewhere | 4.750
Businesses and Non-Profit Organizations without Credit Available Elsewhere | 4.000

The number assigned to this disaster for physical damage is 10267.

(Catalog of Federal Domestic Assistance Number 59008)

Herbert L. Mitchell,
Associate Administrator for Disaster Assistance.

[FR Doc. E5-6834 Filed 12-2-05; 8:45 am]

BILLING CODE 8025-01-P